DEPARTMENT OF TRANSPORTATION

Federal Aviation Administration

14 CFR Part 71

[Docket No. FAA-2016-0986; Airspace Docket No. 15-AEA-7]

RIN 2120-AA66

Amendment of Air Traffic Service (ATS) Routes; Eastern United States

AGENCY: Federal Aviation Administration (FAA), DOT.

ACTION: Final rule.

SUMMARY: This action modifies area navigation (RNAV) routes Q-39 and Q-67, in the eastern United States. The modifications provide a more efficient airway design within a portion of the airspace assigned to the Indianapolis Air Route Traffic Control Center (ARTCC).

DATES: Effective date 0901 UTC, April 27, 2017. The Director of the Federal Register approves this incorporation by reference action under Title 1, Code of Federal Regulations, part 51, subject to the annual revision of FAA, Order 7400.11 and publication of conforming amendments.

ADDRESSES: FAA Order 7400.11A, Airspace Designations and Reporting Points, and subsequent amendments can be viewed online at http://www.faa.gov/air_traffic/publications/. For further information, you can contact the Airspace Policy Group, Federal Aviation Administration, 800 Independence Avenue SW., Washington, DC 20591; telephone: (202) 267-8783. The Order is also available for inspection at the National Archives and Records Administration (NARA). For information on the availability of FAA Order 7400.11A at NARA, call (202) 741-6030, or go to http://www.archives.gov/federal_register/code_of_federal-regulations/ibr_locations.html.

FAA Order 7400.11, Airspace Designations and Reporting Points, is published yearly and effective on September 15.

FOR FURTHER INFORMATION CONTACT: Paul Gallant, Airspace Policy Group, Office of Airspace Services, Federal Aviation Administration, 800 Independence Avenue SW., Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies air traffic service routes Q-39 and Q-67 in the eastern United States to maintain the efficient flow of air traffic.

History

On October 7, 2016, the FAA published a notice of proposed rulemaking (NPRM) (81 FR 69729), Docket No. FAA-2016-9086, to amend RNAV routes Q-39 and Q-67 to expand the availability of area navigation routes and provide a more efficient airway design within Indianapolis ARTCC's airspace.

Interested parties were invited to participate in this rulemaking effort by submitting written comments on the proposal. One comment was received.

Discussion of Comment

The commenter asked how much air traffic is actually using routes Q-39 and Q-67. A review of six months Performance Data Analysis and Reporting System (PDARS) information for Q-39 and Q-67 revealed a total of 13,524 aircraft filed the RNAV routes.

Area navigation routes are published in paragraph 2006 of FAA Order 7400.11A dated August 3, 2016 and effective September 15, 2016, which is incorporated by reference in 14 CFR 71.1. The area navigation routes listed in this document will be published subsequently in the Order.

Availability and Summary of Documents for Incorporation by Reference

This document amends FAA Order 7400.11A, Airspace Designations and Reporting Points, dated August 3, 2016, and effective September 15, 2016. FAA Order 7400.11A is publicly available as listed in the ADDRESSES section of this document. FAA Order 7400.11A lists Class A, B, C, D, and E airspace areas, air traffic service routes, and reporting points.

The Rule

The FAA is amending Title 14, Code of Federal Regulations (14 CFR) part 71 to modify RNAV routes Q-39 and Q-67 in the eastern United States. The modifications expand the availability of area navigation routes and provide a more efficient airway design within Indianapolis ARTCC's airspace. The route modifications are described below.

Q-39 RNAV route Q-39 extends between the CLAWD, NC waypoint (WP) and the WISTA, WV, WP. This action shifts the alignment of the route slightly to the east, bypassing the WISTA WP, to cross the TARCI, WV, WP (located at lat. 38°16′36.08″ N., long. 081°18′34.08″ W.); then the route continues northward to a new ASERY, WV, WP (located at lat. 38°28′35.97″ N., long. 081°17′34.14″ W.).

Q-67 RNAV route Q-67 extends between the SMTTH, TN, WP to the COLTZ, OH, fix. In its current alignment, the route proceeds from the JONEN, KY, WP northward to the COLTZ, OH, fix. The FAA is eliminating the segment between the JONEN WP and the CLOTZ fix and replacing it with a segment from the JONEN WP to the DARYN, WV, WP (located at lat. 38°46′07.80″ N., long. 082°00′57.92″ W.). The DARYN WP is located near the Henderson, WV, VORTAC.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of modifying two RNAV Q-routes qualifies for categorical exclusion under the National Environmental Policy Act and its implementing regulations at 40 CFR part 1500, and in accordance with FAA Order 1050.1F. Environmental Impacts: Policies and Procedures, Paragraph 5-6.5a, which categorically excludes from further environmental impact review rulemaking actions that designate or modify classes of airspace areas, airways, routes, and reporting points (see 14 CFR part 71, Designation of Class A, B, C, D, and E Airspace Areas; Air Traffic Service Routes; and Reporting Points). This action is not expected to cause any potentially significant environmental impacts. In accordance with FAA Order 1050.1F, paragraph 5-2 regarding Extraordinary Circumstances, this action has been reviewed for factors and circumstances in which a normally categorically excluded action may have a significant environmental impact requiring further analysis, and it is determined that no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 is amended to read as follows:

Authority: 49 U.S.C. 106(f), 106(g), 40103, 40113, 40120; E.O. 10854, 24 FR 9565, 3 CFR, 1959-1963 Comp., p.389

§ 71.1 [Amended]

2. The incorporation by reference in 14 CFR 71.1 of FAA Order 7400.11A, Airspace Designations and Reporting Points, dated August 3, 2016 and effective September 15, 2016, is amended as follows:

Paragraph 2006 United States Area Navigation Routes

* * * * *

Q-39 CLAWD, NC to ASERY, WV [Amended]
CLAWD, NC | WP | (Lat. 36°25′08.98″ N., long. 081°08′49.75″ W.)
TARCI, WV | WP | (Lat. 38°16′36.08″ N., long. 081°18′34.08″ W.)
ASERY, WV | WP | (Lat. 38°28′35.97″ N., long. 081°17′34.14″ W.)
Q-67 SMTTH, TN to DARYN, WV [Amended]
SMTTH, TN | WP | (Lat. 35°54′41.57″ N., long. 084°00′19.74″ W.)
CEMEX, KY | WP | (Lat. 36°45′44.94″ N., long. 083°23′33.58″ W.)
IBATE, KY | WP | (Lat. 36°59′12.36″ N., long. 083°13′40.36″ W.)
TONIO, KY | FIX | (Lat. 37°15′15.20″ N., long. 083°01′47.53″ W.)
JONEN, KY | WP | (Lat. 37°59′08.91″ N., long. 082°32′46.19″ W.)
DARYN, WV | WP | (Lat. 38°46′07.80″ N., long. 082°00′57.92″ W.)

Issued in Washington, DC, on February 6, 2017.
Leslie M. Swann,
Acting Manager, Airspace Policy Group.

[FR Doc. 2017-03507 Filed 2-24-17; 8:45 am]

BILLING CODE 4910-13-P